DEPARTMENT OF LABOR

Employment and Training Administration

[TA-W-59,283; TA-W-59,283A]

Staktek Group L.P., Currently Known as Entorian Technologies L.P., Austin, TX; Including an Employee of Staktek Group L.P., Currently Known as Entorian Technologies L.P., Austin, TX Located In Poughquag, NY; Amended Certification Regarding Eligibility to Apply for Worker Adjustment Assistance and Negative Determination Regarding Eligibility to Apply for Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and a Negative Determination Regarding Eligibility to Apply for Alternative Trade Adjustment Assistance on June 7, 2006, applicable to workers of Staktek Group L.P., Austin, Texas. The notice was published in the Federal Register on July 14, 2006 (71 FR 40159).

At the request of the State agency, the Department reviewed the certification for workers of the subject firm. The workers are engaged in the production of stacked memory chips.

New information shows that following a corporate decision, as of March 5, 2008, Staktek Group L.P. is now known as Entorian Technologies L.P.

Workers separated from employment at the subject firm had their wages reported under a separate unemployment insurance (UI) tax account for Entorian Technologies L.P.

Accordingly, the Department is amending this certification to properly reflect this matter.

The intent of the Department's certification is to include all workers of Staktek Group L.P., currently known as Entorian Technologies L.P. who were adversely affected by a shift in production of stacked memory chips to Mexico.

The amended notice applicable to TA-W-59,283 and TA-W-59,283A are hereby issued as follows:

All workers of Staktek Group L.P., currently known as Entorian Technologies L.P., Austin, Texas (TA-W-59,283), and including an employee located in Poughquag, New York (TA-W-59,283A), who became totally or partially separated from employment on or after April 25, 2005, through June 7, 2008, are eligible to apply for adjustment assistance under Section 223 of the Trade Act of 1974.

I further determine that all workers of Staktek Group L.P., currently known as Entorian Technologies L.P., Austin, Texas are denied eligibility to apply for alternative trade adjustment assistance under Section 246 of the Trade Act of 1974.

Signed at Washington, DC, this 28th day of March 2008.
Richard Church,
Certifying Officer, Division of Trade Adjustment Assistance.

[FR Doc. E8-7731 Filed 4-10-08; 8:45 am]

BILLING CODE 4510-FN-P